DEPARTMENT OF HOMELAND SECURITY

Hungary Electronic System for Travel Authorization Validity and Eligibility

AGENCY: Office of Strategy, Policy, & Plans; DHS.

ACTION: Announcement of Electronic System for Travel Authorization validity period and eligibility.

SUMMARY: The U.S. Department of Homeland Security (DHS), in consultation with the U.S. Department of State, is normalizing Hungary's Electronic System for Travel Authorization (ESTA) travel authorization validity period, and changing the eligibility for citizens or nationals of Hungary traveling under the Visa Waiver Program (VWP) to the United States. This announcement reverses the 2023 DHS determination to reduce the ESTA travel authorization validity period for travel by citizens or nationals of Hungary from two years to one year, and to limit the validity of an ESTA for citizens or nationals of Hungary to a single use for ESTA applications. DHS is making these changes because Hungary has addressed the vulnerabilities that led to earlier ESTA restrictions.

DATES: This decision was effective on September 11, 2025. The changes will be implemented by September 30, 2025.

FOR FURTHER INFORMATION CONTACT: Caitlin Finn, Office of International Affairs, Office of Strategy, Policy, & Plans, Department of Homeland Security, 2707 Martin Luther King Jr Ave. SE, Washington, DC 20528.

SUPPLEMENTARY INFORMATION:

I. Background

A. The Visa Waiver Program

Pursuant to section 217 of the Immigration and Nationality Act (INA), 8 U.S.C. 1187, the Secretary of Homeland Security (the Secretary),[1] in consultation with the Secretary of State, may designate certain countries for participation in the Visa Waiver Program (VWP) if certain requirements are met. Those requirements include, among others:

(1) a rate of nonimmigrant visitor visa refusals for citizens or nationals of the country below the statutorily established threshold;

(2) certification by the government seeking designation for VWP participation that it issues machine-readable passports that comply with internationally accepted standards;

(3) a determination by the Secretary, in consultation with the Secretary of State, that the country's designation would not negatively affect U.S. law enforcement and security interests;

(4) an agreement to report, or make available through INTERPOL or other designated means authorized by the Secretary, information about the theft or loss of passports to the U.S. government within the designated timeframe;

(5) the country's government's acceptance for repatriation of any citizen, former citizen, or national not later than three weeks after the issuance of a final order of removal; and

(6) an agreement with the United States to share information regarding whether citizens and nationals of the country traveling to the United States represent a threat to the security or welfare of the United States or its citizens.

INA section 217(c)(2)(A)-(F), 8 U.S.C. 1187(c)(2)(A)-(F).

The INA also sets forth requirements for countries' continued VWP eligibility and, where appropriate, probation, suspension, or termination of program countries. See INA section 217(c)-(f), 8 U.S.C. 1187(c)-(f).

Citizens and nationals of VWP countries may apply for admission to the United States at U.S. ports of entry as nonimmigrant visitors for business or pleasure for a period of ninety days or less without first obtaining a nonimmigrant visa, provided they are otherwise eligible for admission under applicable statutory and regulatory requirements. To travel to the United States under the VWP, an alien must, without limitation:

(1) be seeking entry as a visitor for business or pleasure for ninety days or less;

(2) be a citizen or national of a VWP country;

(3) present a valid unexpired electronic and machine-readable passport that meets program requirements and is issued by a designated VWP country to the air or vessel carrier before departure;

(4) execute the required immigration forms;

(5) if arriving at a port of entry into the U.S. by air or sea, arrive on an authorized carrier;

(6) not represent a threat to the welfare, health, safety or security of the United States;

(7) not have failed to comply with the conditions of any previous admission as a nonimmigrant visitor;

(8) possess a round-trip transportation ticket;

(9) obtain an approved travel authorization via Electronic System for Travel Authorization (ESTA);

(10) waive the right to review or appeal a decision regarding admissibility at the port of entry or to contest, other than on the basis of an application for asylum, any action for removal; and

(11) meet other program requirements.

INA section 217(a)-(b); 8 U.S.C. 1187(a)-(b); see also 8 CFR part 217.

Hungary was designated for participation in the VWP on November 17, 2008. See 73 FR 67711 (Nov. 17, 2008).

B. ESTA Validity Period and Eligibility

Pursuant to DHS regulations, a travel authorization issued under ESTA is generally valid for a period of two years from the date of issuance for all citizens and nationals of that VWP country. See 8 CFR 217.5(d)(1). However, the Secretary, in consultation with the Secretary of State, may increase or decrease the ESTA travel authorization validity period and eligibility for a designated VWP country. See 8 CFR 217.5(d)(3); see also INA section 217(h)(3)(C)(i), 8 U.S.C. 1187(h)(3)(C)(i) (“[T]he Secretary of Homeland Security may revoke any such determination [of an ESTA travel authorization validity period] or shorten the period of eligibility under any such determination at any time and for any reason.”).[2] DHS publishes notice of any changes to ESTA travel authorization validity periods in the Federal Register and updates the ESTA website to reflect the specific ESTA travel authorization validity period. See 8 CFR 217.5(d)(3).

II. Change to Hungary's ESTA Validity Period and Eligibility

DHS conducts the statutorily required review of each VWP country at least once every two years to evaluate the effects that continuing the country's designation in the program will have on U.S. national security, law enforcement, and immigration enforcement interests. See INA section 217(c)(5)(A), 8 U.S.C. 1187(c)(5)(A). Prior administrations reduced the validity period of ESTA travel authorizations for Hungarian travelers and limited the validity of an ESTA for Hungarian travelers to a single use. See 88 FR 50759 (Aug. 2, 2023).

DHS, in consultation with DOS, has since determined that Hungary has sufficiently addressed the vulnerabilities that led to the ESTA restrictions and has confidence in its ability to continue to partner with DHS to meet all VWP security requirements. DHS, therefore, is extending the ESTA validity period to two years, and allowing multiple entries for applications received beginning September 30, 2025.

Consistent with DHS's statutory obligations to review each VWP country's compliance with all program requirements every two years, DHS will review Hungary's implementation of all VWP requirements and report findings to Congress. The Secretary of Homeland Security, in consultation with the Secretary of State, also retains the authority to suspend or terminate Hungary's designation as VWP country.

Kristi Noem,
Secretary of Homeland Security.

[FR Doc. 2025-18031 Filed 9-17-25; 8:45 am]

BILLING CODE 4410-9M-P